DEPARTMENT OF LABOR

Employment and Training Administration

[TA-W-85,013]

TRW Integrated Chassis Systems, LLC, North American Braking Division, a Subsidiary of TRW Automotive, Including On-Site Leased Workers From Adecco and DM Burr, Saginaw, Michigan; Notice of Negative Determination Regarding Application for Reconsideration

By application dated October 15, 2014, the United Automobile Workers (UAW), Local Union 467, requested administrative reconsideration of the Department of Labor's negative determination regarding eligibility to apply for worker adjustment assistance, applicable to workers and former workers of TRW Integrated Chassis Systems, LLC, North American Braking Division, a subsidiary of TRW Automotive, Saginaw, Michigan (subject firm). The subject firm is engaged in activities related to the production of rotor and knuckle components and brake corners. The subject worker group includes on-site leased workers from Adecco and DM Burr.

The denial notice was signed on February 26, 2014, and the Notice of Determination was published in the Federal Register on October 29, 2014 (79 FR 64415).

Pursuant to 29 CFR 90.18(c) reconsideration may be granted under the following circumstances:

(1) If it appears on the basis of facts not previously considered that the determination complained of was erroneous;

(2) If it appears that the determination complained of was based on a mistake in the determination of facts not previously considered; or

(3) If in the opinion of the Certifying Officer, a mis- interpretation of facts or of the law justified reconsideration of the decision.

The negative determination was based on the Department's findings that the subject firm did not shift the production of articles like or directly competitive with rotor and knuckle components and brake corners to a foreign country; that imports of articles like or directly competitive with the rotor and knuckle components and brake corners did not contribute importantly to the workers' separation or threat of separation and to the decline in sales or production of the firm; and that the subject firm is not a Supplier or Downstream Producer to a firm that employed a group of workers who received a certification of eligibility under Section 222(a) of the Act, 19 U.S.C. 2272(a).

In the request for reconsideration, the UAW asserts that the workers of the subject firm should be eligible for TAA because industry imports into the United States increased in the first quarter of 2014. The UAW, however, did not provide new information pertaining to 2012 and 2013, which are the time periods under investigation. 29 CFR 90

The petitioner did not supply facts not previously considered; nor provide additional documentation indicating that there was either (1) a mistake in the determination of facts not previously considered or (2) a misinterpretation of facts or of the law justifying reconsideration of the initial determination. Based on these findings, the Department determines that 29 CFR 90.18(c) has not been met.

Conclusion

After careful review of the application and investigative findings, I conclude that there has been no error or misinterpretation of the law or of the facts which would justify reconsideration of the Department of Labor's prior decision. Accordingly, the application is denied.

Signed in Washington, DC, this 9th day of December, 2014.
Michael W. Jaffe,
Certifying Officer, Office of Trade Adjustment Assistance.

[FR Doc. 2014-29824 Filed 12-19-14; 8:45 am]

BILLING CODE 4510-FN-P